DEPARTMENT OF HEALTH AND HUMAN SERVICES

Meeting of the President's Council on Sports, Fitness, and Nutrition

AGENCY: Office of Disease Prevention and Health Promotion, Office of the Assistant Secretary for Health, Office of the Secretary, Department of Health and Human Services.

ACTION: Notice of meeting.

SUMMARY: As stipulated by the Federal Advisory Committee Act, the U.S. Department of Health and Human Services (HHS) is hereby giving notice that the President's Council on Sports, Fitness & Nutrition (PCSFN) will hold its annual meeting. The meeting will be open to the public.

DATES: The meeting will take place on Thursday, September 17, 2020, from 1:00 p.m. to 5:00 p.m. (EDT).

ADDRESSES: The meeting will be held virtually using an online platform. To register to attend the meeting, please visit the registration website at https://kauffmaninc.adobeconnect.com/ch_pcsfn_sept2020/event/event_info.html.

FOR FURTHER INFORMATION CONTACT: Jennifer Anne Bishop, Sc.D., M.P.H., Designated Federal Officer for the PCSFN, 1101 Wootton Parkway, Suite 420, Rockville, MD 20852, (240) 453-8826. Information about PCSFN, including details about the upcoming meeting, can be obtained at https://health.gov/our-work/pcsfn.

SUPPLEMENTARY INFORMATION: The primary functions of the PCSFN include: (1) Advising the President, through the Secretary, concerning progress made in carrying out the provisions of Executive Order 13265, as amended by Executive Order 13824, and recommending to the President, through the Secretary, actions to accelerate such progress; and (2) recommending to the Secretary actions to expand opportunities at the national, state, and local levels for participation in youth sports and engagement in physical fitness and activity (taking into account the HHS Physical Activity Guidelines for Americans, and including consideration for youth with disabilities).

Recommendations may address, but are not necessarily limited to: Increasing awareness of the benefits of participation in youth sports, regular physical activity, and good nutrition; promoting private and public sector strategies to increase participation in youth sports; identifying metrics to gauge youth sports participation and physical activity; and discussing a national and local strategy to recruit volunteers who will support youth participation in sports and regular physical activity.

The Council shall meet, at a minimum, once per fiscal year. The September 2020 meeting will discuss: (1) Activities related to the promotion of the National Youth Sports Strategy; (2) research on promoting youth sports participation; and (3) actions to expand youth sports participation opportunities at the national, state, and local levels. The meeting agenda is in development and will be posted at https://health.gov/our-work/pcsfn when it is finalized.

The meeting on September 17, 2020 is open to the public and the media. Individuals who need special assistance, such as sign language interpretation or other reasonable accommodations, should indicate the special accommodation when registering online or by notifying Jennifer Bishop, Sc.D., M.P.H. at Jennifer.bishop@hhs.gov, no later than 5:00 p.m. (EDT) on Monday, September 7, 2020. Members of the public who wish to view the meeting must pre-register using the following link: https://kauffmaninc.adobeconnect.com/ch_pcsfn_sept2020/event/event_info.html.

Dated: September 1, 2020.
Paul Reed,
Acting Director, Office of Disease Prevention and Health Promotion.

[FR Doc. 2020-19682 Filed 9-4-20; 8:45 am]

BILLING CODE 4150-35-P